DEPARTMENT OF ENERGY

Federal Energy Regulatory Commission

Combined Notice of Filings #1

Take notice that the Commission received the following electric corporate filings:

Docket Numbers: EC12-81-000

Applicants: Kansas City Power & Light Company

Description: Application of Kansas City Power & Light Company for Authorization under section 203 of the Federal Power Act and Request for Expedited Action.

Filed Date: 3/16/12

Accession Number: 20120316-5013

Comments Due: 5 p.m. ET 4/6/12

Take notice that the Commission received the following electric rate filings:

Docket Numbers: ER11-2604-003

Applicants: Commonwealth Chesapeake Company LLC

Description: Tariff Amendment—March 15, 2012 to be effective 5/14/2012.

Filed Date: 3/15/12

Accession Number: 20120315-5120

Comments Due: 5 p.m. ET 4/5/12

Docket Numbers: ER11-4100-003

Applicants: California Independent System Operator Corporation

Description: 2012-03-15 CAISO ER11-4100 Errata to Order 745 Compliance filing to be effective 12/15/2011.

Filed Date: 3/15/12

Accession Number: 20120315-5147

Comments Due: 5 p.m. ET 4/5/12

Docket Numbers: ER12-126-003

Applicants: Trademark Merchant Energy, LLC

Description: Compliance Filing—Market-Based Rate Tariff Amendment to be effective 5/14/2012.

Filed Date: 3/15/12

Accession Number: 20120315-5096

Comments Due: 5 p.m. ET 4/5/12

Docket Numbers: ER12-126-004; ER10-3079-002

Applicants: Tyr Energy, LLC, Trademark Merchant Energy, LLC

Description: Trademark Merchant Energy, LLC and Tyr Energy, LLC's Compliance Filing and Updated Market Power Analyses for the Northeast and Southeast region Southeast regions.

Filed Date: 3/15/12

Accession Number: 20120315-5173

Comments Due: 5 p.m. ET 4/5/12

Docket Numbers: ER12-1271-000

Applicants: PJM Interconnection, L.L.C.

Description: Queue Position O09; Original Service Agreement No. 3267 to be effective 2/14/2012.

Filed Date: 3/15/12

Accession Number: 20120315-5122

Comments Due: 5 p.m. ET 4/5/12

Docket Numbers: ER12-1272-000

Applicants: Orange and Rockland Utilities, Inc.

Description: O&R Undergrounding Filing to be effective 4/1/2012.

Filed Date: 3/15/12

Accession Number: 20120315-5145

Comments Due: 5 p.m. ET 4/5/12

Docket Numbers: ER12-1273-000

Applicants: PJM Interconnection, L.L.C.

Description: Queue Position W4-102; Original Service Agreement Nos. 3268 & 3269 to be effective 2/14/2012.

Filed Date: 3/15/12

Accession Number: 20120315-5146

Comments Due: 5 p.m. ET 4/5/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2012.
Nathaniel J. Davis, Sr.,
Deputy Secretary.

[FR Doc. 2012-7139 Filed 3-23-12; 8:45 am]

BILLING CODE 6717-01-P